DEPARTMENT OF STATE

[Public Notice 8449; No. 2013-5]

Determination Pursuant to the Foreign Missions Act

Pursuant to the authority vested in me under the Foreign Missions Act, 22 U.S.C. 4301 et seq. (“the Act”), and Department of State Delegation of Authority No. 198 of September 16, 1992, I hereby determine that the plans submitted by the Embassy of the Republic of South Africa to the Public Space Committee of the District of Columbia's Department of Consumer and Regulatory Affairs concerning the location of a flagpole in public space at its chancery located at 3051 Massachusetts Avenue NW., demonstrate substantial compliance with District of Columbia building and related codes in a manner determined by the Secretary to be inconsistent with the international obligations of the United States, in accordance with section 206(g) of the Act.

Dated: August 20, 2013.
Patrick F. Kennedy,
Under Secretary for Management.

[FR Doc. 2013-21600 Filed 9-4-13; 8:45 am]

BILLING CODE 4710-43-P